DEPARTMENT OF STATE

[Public Notice: 7677]

Exchange Visitor Program—Cap on Current Participant Levels and Moratorium on New Sponsor Applications for Summer Work Travel Program

AGENCY: Department of State.

ACTION: Notice Regarding the Summer Work Travel Program.

SUMMARY: Effective January 1, 2012, the Department is restricting the size of the Exchange Visitor Program (J-1visa) category of Summer Work Travel to 2011 actual participant levels. The Department is also announcing, effective immediately, a moratorium on designation of new Summer Work Travel sponsor organizations.

FOR FURTHER INFORMATION CONTACT: Rick A. Ruth, Deputy Assistant Secretary, Acting, Bureau of Educational and Cultural Affairs, U.S. Department of State, SA-5, Floor 5, 2200 C Street NW., Washington, DC 20522-0505; Tel: (202) 632-2805. Email: JExchanges@state.gov.

SUPPLEMENTARY INFORMATION: The Summer Work Travel (SWT) program allows foreign post-secondary students to come to the United States during their major academic break for a maximum of four months to travel and work in largely unskilled positions. The program has been in operation since 1963 and helps the Department reach a segment of the youth demographic that often does not have the means to visit the United States unless they can work to defray their costs. In 2011, approximately 103,000 foreign students will have participated in the SWT program. Roughly one million foreign post-secondary students have participated in the past decade. The SWT program supports public diplomacy efforts by fostering constructive, personal ties with foreign youth and offering them a positive view of the United States that they can then share in their home countries.

The Department began an ongoing, comprehensive review of the Summer Work Travel program in spring 2010, which has resulted in significant changes to the existing regulations that govern administration of the program. A pilot program that placed more stringent requirements on participants from six countries (Russia, Ukraine, Bulgaria, Belarus, Moldova and Romania) was implemented for the 2011 season. A program-wide Interim Final Rule, which took effect on July 15, 2011: (a) Strengthens sponsor oversight requirements with respect to both program participants for whom sponsors are responsible and the third parties that sponsors rely upon to assist them in administering their programs (i.e., U.S. employers and foreign agents); (b) requires that participants from non-Visa Waiver Program countries be pre-placed in a job before the Form DS-2019 is issued; (c) requires sponsors to fully vet employers and all SWT job offers; and, (d) requires sponsors to contact current program participants on a monthly basis to monitor their welfare and whereabouts.

Yet, despite these new regulations, the number of program complaints received this year continues to remain unacceptably high and includes, among other issues, reports of improper work placements, fraudulent job offers, job cancellations upon participant arrival in the United States, inappropriate work hours, and problems regarding housing and transportation.

To ensure that these issues are appropriately addressed, the Department is continuing and augmenting its review of the Summer Work Travel program and its governing regulations. Until the Department completes its review and implements the next steps, currently designated sponsors may continue to operate under their present designations and current regulations at 22 CFR Part 62; however, until further notice, SWT program sponsors in business for the full 2011 calendar year will not be permitted to expand their number of program participants beyond their actual total 2011 participant program size. No new applications from prospective sponsors for SWT program designation will be accepted at this time.

Dated: October 31, 2011.
Rick A. Ruth,
Deputy Assistant Secretary for Private Sector Exchange, Acting, Bureau of Educational and Cultural Affairs, Department of State.

[FR Doc. 2011-28810 Filed 11-4-11; 8:45 am]

BILLING CODE 4710-05-P